DEPARTMENT OF JUSTICE

Antitrust Division

Notice Pursuant to the National Cooperative Research and Production Act of 1993—Medical CBRN Defense Consortium

Notice is hereby given that, on October 13, 2017, pursuant to Section 6(a) of the National Cooperative Research and Production Act of 1993, 15 U.S.C. 4301 et seq. (“the Act”), Medical CBRN Defense Consortium (“MCDC”) has filed written notifications simultaneously with the Attorney General and the Federal Trade Commission disclosing changes in its membership. The notifications were filed for the purpose of extending the Act's provisions limiting the recovery of antitrust plaintiffs to actual damages under specified circumstances. Specifically, Medicago, USA, Durham, NC; Lynntech, Inc., College Station, TX; Cepheid, Sunnyvale, CA; Valaria Technical Consultants, LLC, Westminster, MD; Integrity Bio, Inc., Camarillo, CA; California Institute of Technology, Pasadena, CA; General Atomics, San Diego, CA; Conductive Technologies, Inc., York, PA; Dyadic International, Jupiter, FL; Excet, Inc., Springfield, VA; INanoBio Inc., Tempe, AZ; SynerGene Therapeutics, Inc., Potomac, MD; Rutgers University, New Brunswick, NJ; Celdara Medical, LLC, Lebanon, NH; Janus-I Science, Inc., Carlsbad, CA; Pharm-Olam International Ltd, Houston, TX; Vaxess Technologies, Inc., Allston, MA; HORIBA Instruments, Inc., Edison, NY; Sentinel Analytics Software, Inc., Davis, CA; Booz Allen Hamilton, McLean, VA; Tonix Pharmaceuticals, New York, NY; Just Biotherapeutics, Inc., Seattle, WA; General Electric Company, GE Global Research, Niskayuna, NY; The University of North Carolina Chapel Hill, Chapel Hill, NC; and Rector and Visitors of the University of Virginia, Charlottesville, VA, have been added as parties to this venture.

Also, Tech62, Fairfax, VA; Joint Research and Development, Inc., Stafford, VA; ProModel Corporation, Allentown, PA; and Proteos, Kalamazoo, MI, have withdrawn as parties to this venture.

No other changes have been made in either the membership or planned activity of the group research project. Membership in this group research project remains open, and MCDC intends to file additional written notifications disclosing all changes in membership.

On November 13, 2015, MCDC filed its original notification pursuant to Section 6(a) of the Act. The Department of Justice published a notice in the Federal Register pursuant to Section 6(b) of the Act on January 6, 2016 (81 FR 513).

The last notification was filed with the Department on July 10, 2017. A notice was published in the Federal Register pursuant to Section 6(b) of the Act on August 15, 2017 (82 FR 38709).

Patricia A. Brink,
Director of Civil Enforcement, Antitrust Division.

[FR Doc. 2017-26215 Filed 12-5-17; 8:45 am]

BILLING CODE P